DEPARTMENT OF THE INTERIOR

U.S. Geological Survey

Request for Public Comments on Information Collection Submitted to OMB for Review Under the Paperwork Reduction Act

The proposal for the information collection described below has been submitted to the Office of Management and Budget for approval under the provisions of the Paperwork Reduction Act (44 U.S.C. chapter 35). Copies of the proposed collection of information may be obtained by contacting the Bureau's clearance officer at the phone number listed below. OMB has up to 60 days to approve or disapprove the information collection, but may respond after 30 days; therefore comments on the proposal should be made directly to the Desk Officer for the Interior Department, Office of Regulatory Affairs, Office of Management and Budget, Washington, DC 20503; and to the Bureau Clearance Officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Visitor knowledge and economic impact at Arapaho, Arrowwood and Sand Lake National Wildlife Refuges.

OMB Approval No.: New collection.

Abstract: The National Wildlife Refuge System Improvement Act of 1997 requires that all refuges will be managed in accordance with an approved Comprehensive Conservation Plan (CCP) which, when implemented, will achieve refuge purposes; help fulfill the Refuge System mission; maintain and, where appropriate, restore the ecological integrity of each refuge and the Refuge System; help achieve the goals of the Wilderness Preservation System; and meet other mandates. An underlying component of these plans is a strong scientific foundation for establishment for refuge objectives, implementation of management actions, and quantitative monitoring of progress towards these objectives. Few studies have been conducted that evaluate public knowledge, perception, or economic value associated with National Wildlife Refuges. Information about the existing community, economic, and public relations status is a precursor to many of the habitat and visitor management decisions. The primary objective of this study is to gain sufficient knowledge about refuge visitors. Our second objective is to develop and test a set of tools that can be used/repeated at other refuges around the country. Understanding public knowledge, perception, and values is a vital component of natural resource management. Improved understanding will guide future management practices.

Bureau Form No.: None.

Frequency: One time.

Description of Respondents: A sample of visitors to Arapaho, Arrowwood, and Sand Lake National Wildlife Refuges.

Estimated Completion Time: 15 minutes per respondent (approximate).

Number of Respondents: 600 (200 per refuge).

Burden Hours: 150 hours (The burden estimates are based on 15 minutes to complete each questionnaire and an 70% return rate.)

For Further Information Contact: Phadrea Ponds (970) 226-9445, phadrea ponds@usgs.gov.

Dated: September 24, 2001.
Dennis B. Fenn,
Associate Director for Biology.

[FR Doc. 02-1071 Filed 1-15-02; 8:45 am]

BILLING CODE 4310-Y7-M